OFFICE OF GOVERNMENT ETHICS

Submission for OMB Review; Comment Request for Unmodified Public Financial Disclosure Access Customer Service Survey

AGENCY: Office of Government Ethics (OGE).

ACTION: Notice.

SUMMARY: The Office of Government Ethics has submitted the Public Financial Disclosure Access Customer Service Survey to the Office of Management and Budget (OMB) for review and three-year extension of approval under the Paperwork Reduction Act. OGE proposed no changes to the survey form.

DATES: Comments by the public and agencies on this information collection should be received by April 22, 2005.

ADDRESSES: Comments should be sent to Joseph F. Lackey, Office of Information and Regulatory Affairs, Office of Management and Budget, New Executive Office Building, Room 10235, Washington, DC 20503; Telephone: (202) 395-4741.

FOR FURTHER INFORMATION CONTACT: Mary T. Donovan at the U.S. Office of Government Ethics; Telephone: (202) 482-9232; TDD: (202) 482-9293; Fax: (202) 482-9237. A copy of the survey form may be obtained, without charge, by contacting Ms. Donovan.

SUPPLEMENTARY INFORMATION: The Office of Government Ethics uses the Public Financial Disclosure Access Customer Service Survey form (OMB control number 3209-0009) to assess requester satisfaction with the service provided by OGE in responding to requests by members of the public for access to copies of Standard Form (SF) 278 Executive Branch Personnel Public Financial Disclosure Reports on file with OGE. Most of the SF 278 reports available at OGE are those filed by executive branch Presidential appointees subject to Senate confirmation. Requests for access to SF 278 reports are made pursuant to the special public access provision of section 105 of the Ethics in Government Act of 1978 (the Ethics Act), as codified at 5 U.S.C. appendix § 105, and procedures in 5 CFR 2634.603 of OGE's executive branchwide regulations. Requesters ask for copies of SF 278 reports by completing an OGE Form 201, “Request to Inspect or Receive Copies of SF 278 Executive Branch Personnel Public Financial Disclosure Reports or Other Covered Records.”

OGE distributes the survey forms to requesters along with copies of requested SF 278 reports. The instructions on the survey form ask the requester to complete and return the survey form to OGE via the self-contained postage-paid postcards (the reverse side of the survey form, when folded, becomes a pre-addressed postcard). The purpose of the survey form is to determine through customer responses how well OGE is responding to such requests and how OGE can maintain its current high level of customer satisfaction in this area. The current paperwork approval for the survey form is scheduled to expire at the end of June 2005.

On December 17, 2004, OGE issued its first round Federal Register notice to announce its forthcoming request to OMB for paperwork renewal of the survey form. See 69 FR 75547-75548 with comments due by March 2, 2005. OGE received one comment; however, the comment concerned the SF 278 report, not the survey form. In that notice, and this one, OGE proposes no changes to the survey form. If OGE's current stock of survey forms is depleted within the next three years, OGE plans to reprint the form with two minor modifications (with notice to OMB at that time) without further paperwork clearance. These modifications are: updating the OGE address from “Attn: FDD” to “Attn: PSD” and, in the public burden statement, change “Associate Director for Administration” to “Deputy Director for Administration and Information Management.”

Pursuant to the Paperwork Reduction Act (44 U.S.C. chapter 35), OGE is not including in its public burden estimate for the survey form the limited number of access requests filed by other Federal agencies or Federal employees. Nor is OGE including in that estimate, the limited number of requests for copies of other records covered under the special Ethics Act public access provision (such as certificates of divestiture) since the survey form is only sent to persons who request copies of SF 278 reports.

As so defined, OGE's estimate for the total number of survey forms to be filed annually at OGE over the next three years by members of the public (primarily by news media representatives, public interest group members and private citizens) is 30. This estimate is based on a calculation of the number of survey forms received at OGE between January 2001 and December 2004 (112 survey forms). This estimate is 20 less than that for the prior three-year period. The estimated average amount of time to read the instructions and complete the survey form, remains the same at three minutes. Thus, the new overall estimated annual public burden for the OGE Public Financial Disclosure Access Customer Service Survey form will be two hours (rounded up from one and a half hours (30 forms × 3 minutes per form).

In this second round notice, public comment is again invited on all aspects of OGE's customer service survey form, specifically views on: the accuracy of OGE's public burden estimate; the potential for enhancement of quality, utility, and clarity of the information to be collected; and the minimization of burden (including the possibility of use of information technology). The Office of Government Ethics, in consultation with OMB, will consider all comments received, which will become a matter of public record.

Approved: March 14, 2005.
Marilyn L. Glynn,
Acting Director, Office of Government Ethics.

[FR Doc. 05-5690 Filed 3-22-05; 8:45 am]

BILLING CODE 6345-02-P